FEDERAL TRADE COMMISSION

Granting of Request for Early Termination of the Waiting Period Under the Premerger Notification Rules

Section 7A of the Clayton Act, 15 U.S.C. 18a, as added by Title II of the Hart-Scott Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans No. | Acquiring | Acquired | Entities
Transactions Granted Early Termination—07/21/2008
20081459 | Prism Holding Corporation | Passport Holding Corporation | Passport Holding Corporation.
20081464 | Quicksilver Resources Inc | The Perot Investment Trust I | Hillwood Oil Gas, L.P Nortex Minerals, L.P.
20081469 | Duke Energy Corporation | Diamond Castle Partners IV, L.P | Catamount Energy Corporation.
20081487 | Allied World Assurance Company Holdings Ltd | Alleghany Corporation | Darwin Professional Underwriters, Inc.
20081490 | Health Care Service Corporation | MEDecision, Inc | MEDecision, Inc.
Transactions Granted Early Termination—07/22/2008
20081403 | NTR plc | Green Plains Renewable Energy, Inc | Green Plains Renewable Energy, Inc.
20081430 | Flowers Foods, Inc | Lloyd Edward Eisele, Jr | Holsum Bakery, Inc.
20081433 | Sageview Capital Master, L.P | Invitrogen Corporation | Invitrogen Corporation.
20081434 | Flowers Foods, Inc | C&G Holdings, Inc | C&G Holdings, Inc.
Transactions Granted Early Termination—07/24/2008
20081470 | LTX Corporation | Credence Systems Corp | Credence Systems Corp.
Transactions Granted Early Termination—07/28/2008
20081437 | Parexel International Corporation | ClinPhone plc | ClinPhone plc.
20081438 | Newco | David H. Domsife | Gillig Corporation Herrick-Pacific Corporation.
20081439 | Newco | Dorothy H. Jernstedt | Gillig Corporation Herrick-Pacific Corporation.
20081443 | AT&T Inc | Dennis L. O'Neill | MilkyWay Broadband, LLC.
20081457 | GTCR Fund VII, L.P | GTC Biotherapeutics, Inc | GTC Biotherapeutics, Inc.
20081488 | EGI-Fund (08-10) Investors, L.L.C | MiddleBrook Pharmaceuticals, Inc | MiddleBrook Pharmaceuticals, Inc.
20081495 | Audax Private Equity Fund III, L.P | Hamid Mirafzali and Shadan Mirafzali | MiraMed Global Services, Inc.
20081504 | K.K. BCJ-1 | D&M Holdings Inc | D&M Holdings Inc
Transactions Granted Early Termination—07/29/2008
20081476 | Sageview Capital Master, L.P | Advanced Medical Optics, Inc | Advanced Medical Optics, Inc.
20081502 | Wyeth | The Procter & Gamble Company | The Procter & Gamble Company.
20081503 | Progress Software Corporation | IONA Technologies PLC | IONA Technologies PLC.
20081508 | Wind Point | Glenn W. Hasse Partners VI, L.P | International Assembly LLC, Ryt-way Industries, LLC, T&G Transport LLC.
20081510 | Edward L. Maletis | CoHo Distributing LLC | CoHo Distributing LLC.
20081513 | HKW Capital Partners III, L.P | David R. Porter & Angela L. Porter | FURGOPet, Inc., FURminator, Inc., Shed Shack, Inc.
20081516 | Exterran Holdings, Inc | Joe Scott | EMIT Water Discharge Technology, LLC.
20081523 | OHS Inc | Cenex Finance Association, Inc | Cofina Financial, LLC.
20081531 | United Drug plc | Superior Group, Inc | Sharp Corporation.
Transactions Granted Early Termination—07/30/2008
20081299 | Honeywell International Inc | Intelligent Automation Corporation | Intelligent Automation Corporation.
Transactions Granted Early Termination—08/01/2008
20081478 | TowerBrook Investors II, L.P | Broadlane, Inc | Broadlane, Inc.
20081497 | Harding Energy Partners, LLC | Exxon Mobil Corporation | DDJET Limited LLP.
20081501 | Applied Industrial Technologies, Inc | Henry L. Hillman | Bay Advanced Technologes, LLC, Carolina Fluid Components, LLC, DTS Fluid Power, LLC, Fluid Power Resource, LLC, FluidTech, LLC, H.E.B., LLC, Hughes-HiTech, LLC, Hydro Air, LLC, Mach V, Inc.
20081507 | Hicks Acquisition Company I, Inc | Blackstone Capital Partners III Merchant Banking Fund L.P | GPO Capital Corp. II.
20081509 | J. Luther King, Jr | Industrial Distribution Group, Inc | Industrial Distribution Group, Inc.
20081519 | P. Morgan McCague | BCE Inc | BCE Inc.
20081521 | BBN Holdings, Inc | Landmark Communications, Inc | Landmark Communications, Inc.
20081526 | Puget Holdings LLC | Puget Energy, Inc | Puget Energy, Inc.
20081528 | Snow Phipps Group, L.P | ACC Holdco, Inc | ACC Holdco, Inc.
20081545 | Odyssey Investment Partners Fund III, L.P | EAG Limited | EAG Limited.
20081555 | Diamond Castle Partners IV, L.P | Landmark Communications, Inc | NewsChannel 5 Network, LLC.

FOR FURTHER INFORMATION CONTACT: Sandra M. Peay, Contact Representative, or Renee Hallman, Contact Representative, Federal Trade Commission, Premerger Notification Office, Bureau of Competition, Room H-303, Washington, DC 20580, (202) 326-3100.

By Direction of the Commission.
Donald S. Clark,
Secretary.

[FR Doc. E8-22567 Filed 9-25-08; 8:45 am]

BILLING CODE 6750-01-M